DEPARTMENT OF THE INTERIOR

Bureau of Land Management

[PO #4820000251; Order #02412-015-004-047181.0]

Public Meeting for the San Rafael Swell Recreation Area Advisory Council

AGENCY: Bureau of Land Management, Interior.

ACTION: Notice of public meeting.

SUMMARY: In accordance with the Federal Land Policy and Management Act of 1976 and the Federal Advisory Committee Act of 1972, the U.S. Department of the Interior, Bureau of Land Management (BLM) San Rafael Swell Recreation Area Advisory Council (Council) will meet as follows.

DATES: The Council will participate in a field tour on October 1, 2025, from 9 a.m. to 12:00 p.m. Mountain Time (MT), and hold a public meeting on October 2, 2025, from 9 a.m. to 3 p.m. MT. The meeting and field tour are open to the public.

ADDRESSES: The field tour will commence and conclude, and the meeting will be held at the Castle Dale City Hall, 20 South 100 East, Castle Dale, Utah 84513. A public comment period will be held at 12:45 p.m. MT on October 2, 2025.

FOR FURTHER INFORMATION CONTACT: Elijah Waters, Green River District Manager, 170 South 500 East, Vernal, Utah 84078; telephone: 435-781-4400; email: ewaters@blm.gov. Persons in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The John D. Dingell, Jr. Conservation, Management, and Recreation Act (Pub. L. 116-9) established the Council to advise the Secretary of the Interior, through the BLM, on planning and managing the San Rafael Swell Recreation Area. The 7-member Council represents a wide range of interests including local government, recreational users, grazing allotment permittees, conservation organizations, people with expertise in historical uses of the recreation area, and Tribal Nations. The October 1 field tour is to sites within the Green River District. Members of the public are welcome on field tours but must provide their own transportation and meals and register to attend 7 days in advance to the individual listed in the FOR FUTHER INFORMATION CONTACT section of this notice. The October 2 meeting agenda topics will include an update on activities from the Green River District Manager, a presentation on the John D. Dingell, Jr. Conservation, Management, and Recreation Act Resource Management Plan Amendments for Moab, Price, and Vernal Field Offices, an overview of the NEPA public comment process, a public comment period, and other topics the Council may wish to cover. A final agenda will be posted on the Council's web page at https://www.blm.gov/get-involved/resource-advisory-council/near-you/utah/San-Rafael-Swell-RAC 2 weeks in advance of the meeting. Written comments to the Council can be emailed in advance to the individual listed in the FOR FURTHER INFORMATION CONTACT section of this notice.

Public Comment Procedures: The BLM welcomes comments from all interested parties. A public comment period will be held at 12:45 p.m. MT on October 2. Depending on the number of persons wishing to comment and time available, the time for individual oral comments may be limited. Written comments to the Council can be emailed in advance of the meeting to the individual listed in the FOR FURTHER INFORMATION CONTACT section of this notice. All comments will be provided to the Council. Please include “Council Comment” in your submission.

Before including your address, phone number, email address, or other personal identifying information in your comments, please be aware that your entire comment, including your personally identifying information, may be made publicly available at any time. While you can ask us in your comment to withhold your personally identifying information from public review, we cannot guarantee that we will be able to do so.

Requests for Accommodations: Please make requests in advance for sign language interpreter services, assistive listening devices, or other reasonable accommodations. We ask that you contact the person listed in the FOR FURTHER INFORMATION CONTACT section of this notice at least 14 business days prior to the meeting to give the Department of the Interior sufficient time to process your request. All reasonable accommodation requests are managed on a case-by-case basis.

(Authority: 43 CFR 1784.4-2).

Elijah Waters,
Green River District Manager and Council Designated Federal Officer.

[FR Doc. 2025-15392 Filed 8-13-25; 8:45 am]

BILLING CODE 4331-25-P